DEPARTMENT OF JUSTICE

Notice of Consent Decree Pursuant to the Clean Water Act

In accordance with Departmental Policy, 28 CFR 50.7, 38 FR 19029, notice is hereby given that a proposed consent decree in United States and State of Texas v. City of Carthage, Civ. No. 6:04-CV-451, DOJ #90-5-1-1-07648, was lodged in the United States District Court for the Eastern District of Texas on September 30, 2004. The Consent Decree resolves the liability of the named defendant to the United States and the State of Texas for violations of Section 301 of the Clean Water Act, 33 U.S.C. 1311. The claims arise from the City's discharge of effluent from its pubically owned treatment works in violation of the effluent limits contained in its National Pollution Discharge Elimination System permits.

The proposed Consent Decree provides that the City will construct an improved treatment system using chlorination to treat the effluent and meet specified operation and maintenance requirements. Additionally, the City will pay a civil penalty of $20,000 for the violations of the Clean Water Act and will perform a supplemental environmental project (“SEP”) which consists of hooking up 29 residences that are currently on septic tanks to sewer lines.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States and State of Texas v. City of Carthage, DOJ #90-5-1-1-07648. The proposed Consent Decree may be examined at the Office of the United States Attorney, Eastern District of Texas, Tyler Division, 110 N. College St., Suite 700 Tyler, Texas 75702, and at U.S. EPA Region 6, 1445 Ross Avenue, Suite 1200, Dallas, Texas, 75202. During the public comment period, the proposed Consent Decree may also be examined on the following Department of Justice Web site, http://www.usdoj.gov/enrd/open.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy form the Consent Decree Library, please enclose a check in the amount of $13.50 (25 cents per page reproduction cost) payable to the U.S. Treasury.

Thomas Mariani,
Assistant Chief, Environmental Enforcement Section, Environment and Natural Resources Division.

[FR Doc. 04-23097 Filed 10-13-04; 8:45 am]

BILLING CODE 4410-15-M